DEPARTMENT OF EDUCATION

Applications for New Awards; Research Training Programs in the Education Sciences

AGENCY: Institute of Education Sciences, Department of Education.

ACTION: Notice.

SUMMARY: The Department of Education (Department) is issuing a notice inviting applications for new awards for fiscal year (FY) 2025 for the Research Training Programs in the Education Sciences Grant Program.

DATES:

Application Package Available: November 14, 2024.

Deadline for Transmittal of Applications: March 7, 2025.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs.

FOR FURTHER INFORMATION CONTACT: Jennifer Schellinger. Telephone: 202-987-0765.

Email: Jennifer.Schellinger@ed.gov.

If you are deaf, hard of hearing, or have a speech disability and wish to access telecommunications relay services, please dial 7-1-1.

SUPPLEMENTARY INFORMATION:

Full Text of Announcement

I. Funding Opportunity Description

Purpose of Program: Through the Research Training Programs in the Education Sciences Grant Program, IES aims to prepare individuals to conduct rigorous and relevant education research that advances knowledge within the field and addresses issues important to education policymakers and practitioners.

Assistance Listing Number: 84.305B.

OMB Control Number: 4040-0001.

Competition

The IES National Center for Education Research (NCER) is announcing one competition:

Research Training Programs in the Education Sciences (ALN 84.305B). Under this competition, NCER will consider only applications that address one of the following topics:

• Early Career Development and Mentoring Program for Education Research

• Pathways to the Education Sciences Training Program

• IES will not accept FY 2025 Pathways Training Program applications that include institutions that received an FY 2021 Pathways Training grant award or served as a partner institution on an FY 2021 Pathways Training grant award.

• Predoctoral Interdisciplinary Research Training Program in the Education Sciences

• IES will not accept FY 2025 Predoctoral Training Program applications from institutions that received an FY 2020 Predoctoral Training grant award.

• Methods Training for Education Researchers

Application Submission

You may submit one or more than one application to the IES FY 2025 Research Training Programs in the Education Sciences competition so long as you meet the following requirements.

• An institution may submit multiple applications to the Early Career Development and Mentoring Program so long as the Principal Investigator (PI) is different for each application and there is no overlap in mentors.

• An institution may not be the applicant or the partner on more than one application to the Pathways Training Program.

• An institution may not submit an application to the Pathways Training Program, or be a partner on an application, if it is the grantee or partner on an FY 2021 Pathways Training grant award.

• An institution may not submit more than one application to the Predoctoral Training Program.

• An institution may not submit an application to the Predoctoral Training Program if it received an FY 2020 Predoctoral Training grant award.

• An institution may submit multiple applications to the Methods Training Program so long as the applications are substantively different from one another and have no overlap in key personnel.

For the programs that permit multiple applications under the conditions described above, if an institution submits multiple applications that violate any of those conditions, IES will determine whether and which applications will be accepted for review and/or will be eligible for funding. If you submit the same or similar application to IES and to another funding entity within or external to the Department and receive funding for the non-IES application prior to IES scientific peer review of applications, you must withdraw the same or similar application submitted to IES, or IES may otherwise determine you are ineligible to receive an award. If reviews are happening concurrently, IES staff will consult with the other potential funder to determine the degree of overlap and which entity will provide funding if both applications are being considered for funding.

Exemption from Proposed Rulemaking: Under section 191 of the Education Sciences Reform Act, 20 U.S.C. 9581, IES is not subject to section 437(d) of the General Education Provisions Act, 20 U.S.C. 1232(d), and is therefore not required to offer interested parties the opportunity to comment on matters relating to grants.

Program Authority: 20 U.S.C. 9501 et seq.

Note: Projects will be awarded and must be operated in a manner consistent with the nondiscrimination requirements contained in Federal civil rights laws.

Applicable Regulations: (a) The Education Department General Administrative Regulations in 34 CFR parts 77, 81, 82, 84, 86, 97, 98, and 99. In addition, the regulations in 34 CFR part 75 are applicable, except for the provisions in 34 CFR 75.100, 75.101(b), 75.102, 75.103, 75.105, 75.200, 75.201, 75.209, 75.210, 75.211, 75.217(a)-(c), 75.219, 75.220, 75.221, 75.222, 75.230, 75.250, and 75.708. (b) The Office of Management and Budget (OMB) Guidelines to Agencies on Governmentwide Debarment and Suspension (Nonprocurement) in 2 CFR part 180, as adopted and amended as regulations of the Department in 2 CFR part 3485. (c) The Guidance for Federal Financial Assistance in 2 CFR part 200, as adopted and amended as regulations of the Department in 2 CFR part 3474.

Note: The regulations in 34 CFR part 86 apply to institutions of higher education only.

Note: The open licensing requirement in 2 CFR 3474.20 does not apply to this competition.

Note: As of October 1, 2024, grant applicants must follow the provisions in the OMB Guidance for Federal Financial Assistance (89 FR 30046, April 22, 2024) when preparing an application. For more information about these regulations please visit: https://www.cfo.gov/resources-coffa/uniform-guidance/.

II. Award Information

Types of Awards: Discretionary grants and cooperative agreements.

Fiscal Information: Although Congress has not yet enacted an appropriation for FY 2025, IES is inviting applications for this competition now so that applicants can have adequate time to prepare their applications. The actual level of funding, if any, depends on final congressional action. IES may announce additional competitions later in FY 2025.

Estimated Range of Awards: The size of the awards will depend on the scope of the projects proposed. The estimated range of awards varies by topic:

• $200,000 to $400,000 (total) for the Early Career Development and Mentoring Program for Education Research.

• $800,000 to $1,700,000 (total) for the Pathways Training Program.

• $3,000,000 to $5,000,000 (total) for the Predoctoral Interdisciplinary Research Training Program in the Education Sciences.

• $400,000 to $800,000 (total) for the Methods Training Program.

Maximum Award: The maximum award amount for each topic is set out in the NCER Request for Applications (RFA).

For all IES competitions, applications must include budgets no higher than the relevant maximum award as set out in the relevant RFA. IES will not make an award exceeding the maximum award amount as set out in the relevant RFA.

Estimated Number of Awards: The number of awards made under each topic will depend on the quality of the applications received for that topic and the availability of funds. IES anticipates making between 5 and 10 awards under each topic, except for the Methods Training for Education Sciences topic. IES anticipates making between 3 and 5 awards under the Methods Training topic.

Note: The Department is not bound by any estimates in this notice.

Project Period: The maximum project period varies by topic as follows:

• 4 years for the Early Career Development and Mentoring Program for Education Research.

• 5 years for the Pathways Training Program.

• 5 years for the Predoctoral Interdisciplinary Research Training Program in the Education Sciences.

• 3 years for the Methods Training Program.

III. Eligibility Information

1. Eligible Applicants: For the Pathways to the Education Sciences topic, the applicant must either be:

• A minority-serving institution ¹ (MSI) located in the territorial United States that confers bachelor's or master's degrees in academic fields relevant to education; or

¹ For the purpose of this competition, institutions included on the Office of Postsecondary Education's FY 2024 Eligibility Matrix lists of Title III and Title V eligible institutions will be considered MSIs. For more information, see https://www2.ed.gov/about/offices/list/ope/idues/eligibility.html#el-inst. Institutions eligible only for the Department's Title III Part A Strengthening Institutions Program (SIP) are not considered MSIs for the purposes of this competition unless they also meet the eligibility requirement for a specific MSI category.

• An academic institution located in the territorial United States that confers bachelor's or master's degrees in academic fields relevant to education and that partners with an eligible MSI. Any member of the partnership may serve as the grantee.

An institution may not submit an application to the Pathways Training Program, or be a partner on an application, if it is the grantee or partner on an FY 2021 Pathways Training grant award.

For Predoctoral Interdisciplinary Research Training Program in the Education Sciences, the applicant must be an academic institution located in the territorial United States that confers doctoral degrees in academic fields relevant to education. An institution may not submit an application to the Predoctoral Training Program if it received an FY 2020 Predoctoral Training grant award.

For Early Career Development and Mentoring Program for Education Research and Methods Training for Education Researchers, applicants that have the ability and capacity to conduct scientifically valid research are eligible to apply. Eligible applicants include, but are not limited to, nonprofit and for-profit organizations and public and private agencies and institutions of higher education, such as colleges and universities.

2. a. Cost Sharing or Matching: This competition does not require cost sharing or matching.

b. Indirect Cost Rate Information: These programs use an unrestricted indirect cost rate. For more information regarding indirect costs, or to obtain a negotiated indirect cost rate, please see www2.ed.gov/about/offices/list/ocfo/intro.html.

3. Subgrantees: Under 34 CFR 75.708(b) and (c) a grantee under this competition may award subgrants—to directly carry out project activities described in its application—to the following types of entities: nonprofit and for-profit organizations and public and private agencies and institutions of higher education. The grantee may award subgrants to entities it has identified in an approved application.

IV. Application and Submission Information

1. Application Submission Instructions: Applicants are required to follow the Common Instructions for Applicants to Department of Education Discretionary Grant Programs, published in the Federal Register on December 7, 2022 (87 FR 75045) and available at https://www.federalregister.gov/documents/2022/12/07/2022-26554/common-instructions-for-applicants-to-department-of-education-discretionary-grant-programs, which contain requirements and information on how to submit an application.

2. Other Information: Information regarding program and application requirements for the competition can be found in the currently available IES Application Submission Guide and in the RFA, which will be available on or before November 14, 2024, on the IES website at: https://ies.ed.gov/funding/. The application packages for this competition will also be available on or before November 14, 2024.

3. Content and Form of Application Submission: Requirements concerning the content of an application are contained in the RFA for the specific competition. The forms that must be submitted are in the application package for the specific competition.

4. Submission Dates and Times: The deadline date for transmittal of applications is March 7, 2025.

We do not consider an application that does not comply with the deadline requirements.

5. Intergovernmental Review: This competition is not subject to Executive Order 12372 and the regulations in 34 CFR part 79.

6. Funding Restrictions: We reference regulations outlining funding restrictions in the Applicable Regulations section of this notice.

V. Application Review Information

1. Selection Criteria: For all of its grant competitions, IES uses selection criteria based on a peer review process that has been approved by the National Board for Education Sciences. The Peer Review Procedures for Grant Applications can be found on the IES website at Office of Science—Peer Review of Grant Applications (ed.gov).

For the 84.305B competition, Early Career Development and Mentoring, peer reviewers will evaluate the significance of the application, the quality of the research plan, the quality of the career development plan, the qualifications and experience of the personnel, the resources of the applicant to support the proposed activities, and the quality of the engagement and dissemination plan. These criteria are described in greater detail in the RFA.

For the other training topics competed in this notice, peer reviewers will evaluate the significance of the application, the quality of the research training plan, the qualifications and experience of the personnel, the resources of the applicant to support the proposed activities, and the quality of the engagement and dissemination plan. These criteria are described in greater detail in the RFA.

2. Review and Selection Process: We remind potential applicants that in reviewing applications in any discretionary grant competition, IES may consider, under 34 CFR 75.217(d)(3), the past performance of the applicant in carrying out a previous award, such as the applicant's use of funds, achievement of project objectives, compliance with the IES policy regarding public access to research, and compliance with grant conditions. IES may also consider whether the applicant failed to submit a timely performance report or submitted a report of unacceptable quality.

In addition, in making a competitive grant award, IES requires various assurances including those applicable to Federal civil rights laws that prohibit discrimination in programs or activities receiving Federal financial assistance from the Department (34 CFR 100.4, 104.5, 106.4, 108.8, and 110.23). Also, IES requires all key personnel on a grant award to have a persistent identifier, such as ORCID iD (Open Researcher and Contributor Identification; https://orcid.org/) in place before an award will be made.

3. Risk Assessment and Specific Conditions: Consistent with 2 CFR 200.206, before awarding grants under this competition, the Department conducts a review of the risks posed by applicants. Under 2 CFR 200.208, IES may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Grant Administration: Applicants should budget for an annual meeting of up to three days for project directors to be held in Washington, DC.

4. Reporting: (a) If you apply for a grant under a competition announced in this notice, you must ensure that you have in place the necessary processes and systems to comply with the reporting requirements in 2 CFR part 170 should you receive funding under the competition. This does not apply if you have an exception under 2 CFR 170.110(b).

(b) At the end of your project period, you must submit a final performance report, including financial information, as directed by IES. If you receive a multiyear award, you must submit an annual performance report that provides the most current performance and financial expenditure information as directed by IES under 34 CFR 75.118. IES may also require more frequent performance reports under 34 CFR 75.720(c). For specific requirements on reporting, please go to www.ed.gov/fund/grant/apply/appforms/appforms.html.

5. Performance Measures: To evaluate the overall success of its education research grant programs, IES annually assesses the percentage of projects that result in peer-reviewed publications and the number of IES-supported interventions with evidence of efficacy in improving learner education outcomes. School readiness outcomes include pre-reading, reading, pre-writing, early mathematics, early science, and social-emotional skills that prepare young children for school. Student academic outcomes include learning and achievement in academic content areas, such as reading, writing, math, and science, as well as outcomes that reflect students' successful progression through the education system, such as course and grade completion; high school graduation; and postsecondary enrollment, progress, and completion. Social and behavioral competencies include social and emotional skills, attitudes, and behaviors that are important to academic and post-academic success. Employment and earnings outcomes include hours of employment, job stability, and wages and benefits, and may be measured in addition to student academic outcomes.

6. Continuation Awards: In making a continuation award under 34 CFR 75.253, IES considers, among other things: whether a grantee has made substantial progress in achieving the goals and objectives of the project; whether the grantee has expended funds in a manner that is consistent with its approved application and budget; whether a grantee is in compliance with the IES policy regarding public access to research; and if IES has established performance measurement requirements, whether the grantee has made substantial progress in achieving the performance targets in the grantee's approved application.

In making a continuation award, IES also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed in FOR FURTHER INFORMATION CONTACT, as well as in the relevant RFA and application package, individuals with disabilities can obtain this document and a copy of the RFA in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Matthew Soldner,
Acting Director, Institute of Education Sciences.

[FR Doc. 2024-26104 Filed 11-8-24; 8:45 am]

BILLING CODE 4000-01-P